DEPARTMENT OF DEFENSE

Department of the Army

Appointment to the Board of Advisors and Board of Managers of Army Emergency Relief

AGENCY: Department of the Army, DoD.

ACTION: Notice.

SUMMARY: The Army Chief of Staff (General Eric K. Shinseki and his successors) has been authorized to serve as Chairman of the Board of Advisors of Army Emergency Relief. The Army Vice Chief of Staff (General John M. Keane and his successors) and Major General Charles W. Thomas have been authorized to serve as members of the Army Emergency Relief Board of Managers.

FOR FURTHER INFORMATION CONTACT: Major Nancy Waldron, Army Standards of Conduct Office, (703) 588-6704.

SUPPLEMENTARY INFORMATION: The Joint Ethics Regulation, DoDD 5500.7-R, allows the Secretary of the Army, with the concurrence of the Department of Defense General Counsel, to authorize employees to participate in their official capacities in the management of certain non-federal entities. 10 U.S.C. 1033(b) and 1589(b). Army Emergency Relief has been designated as a non-federal entity that employees may serve without compensation as directors, officers, or trustees, pursuant to the regulation. The required authorization and concurrence have been obtained.

Robert L. Swann,
Chief, Standards of Conduct Office.

[FR Doc. 00-4645 Filed 2-25-00; 8:45 am]

BILLING CODE 3710-08-P